DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Survey of Residential Building or Zoning Systems.

Form Number(s): C-411.

Agency Approval Number: 0607-0350.

Type of Request: Revision of a currently approved collection.

Burden: 500 hours.

Number of Respondents: 2,000.

Avg. Hours per Response: 15 minutes.

Needs and Uses: The U.S. Census Bureau requests a revision of a currently approved collection for Form C-411, “Survey of Building and Zoning Permit Systems” which will be renamed “Survey of Residential Building or Zoning Permit Systems.” The Census Bureau produces statistics used to monitor activity in the large and dynamic construction industry. These statistics help state and local governments and the Federal Government, as well as private industry, to analyze this important sector of the economy. The accuracy of the Census Bureau statistics regarding the amount of construction authorized depends on data supplied by building and zoning officials throughout the country. The Census Bureau uses Form C-411 to obtain information from state and local building permit officials needed for updating the universe of permit-issuing places from which samples for the Report of Privately-Owned Residential Building or Zoning Permits Issued (OMB number 0607-0094) also known as the Building Permits Survey (BPS), and the Survey of Housing Starts, Sales, and Completions (OMB number 0607-0110) also known as Survey of Construction (SOC) are selected. The questions pertain to the legal requirements for issuing building or zoning permits in the local jurisdictions. Information is obtained on such items as geographic coverage and types of construction for which permits are issued.

The form is sent to jurisdictions when the Census Bureau has reason to believe that a new permit system has been established or an existing one has changed. This is based on information from a variety of sources including survey respondents, regional councils and Census' Geography Division which keeps abreast of changes in corporate status.

We use the information collected to verify the existence of new permit systems or changes to existing systems. Based on the information, the MCD adds new permit-issuing places to the universe, deletes places no longer issuing permits, and makes changes to the universe to reflect those places that have merged.

We plan to change the format of the form and add the following questions:

(1) What type of permit would be issued for “Assisted living facility”? (Section 4.A.)

(2) “The Census Bureau collects information from each permit office on number of buildings, number of units, and valuation of construction for new residential structures. Are these three data items available from your office?” (Section 4.C.)

(3) “Please provide an estimate of how many new housing units were built in your jurisdiction during the prior calendar year:” (Section 4.D.)

We need the above information to ensure that we update our universe of permit-issuing places correctly for these types of places.

We are changing the format of the form to utilize space and to add skip patterns to provide direction for better comprehension.

Affected Public: State, local or tribal government.

Frequency: On occasion.

Respondent's Obligation: Voluntary.

Legal Authority: Title 13 U.S.C., Sections 161 and 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: July 25, 2005.
Madeleine Clayton,
Management Analyst, Office of the Chief Information Officer.

[FR Doc. 05-14990 Filed 7-28-05; 8:45 am]

BILLING CODE 3510-07-P